DEPARTMENT OF EDUCATION

Applications for New Awards; Training and Information for Parents of Children With Disabilities—Community Parent Resource Centers

AGENCY: Office of Special Education and Rehabilitative Services, Department of Education.

ACTION: Notice.

SUMMARY: The Department of Education (Department) is issuing a notice inviting applications for new awards for fiscal year (FY) 2021 for Training and Information for Parents of Children with Disabilities—Community Parent Resource Centers, Assistance Listing Number 84.328C. These centers will provide objective information, resources, and impartial training that support parents and youth in working in partnership with professionals to establish and meet high expectations for children and youth with disabilities. This notice relates to the approved information collection under OMB control number 1820-0028.

DATES:

Applications Available: February 19, 2021.

Deadline for Transmittal of Applications: April 20, 2021.

Date of Pre-Application Meeting: The Office of Special Education Programs (OSEP) will conduct a pre-application meeting specific to this competition via webinar on March 24, 2021, at 3:00 p.m., Eastern Time. In addition, no later than February 24, 2021, OSEP will post a pre-recorded informational webinar designed to provide technical assistance to interested applicants. Information about the teleconference and the pre-recorded webinar may be found at www2.ed.gov/fund/grant/apply/osep/new-osep-grants.html.

Deadline for Intergovernmental Review: June 21, 2021.

ADDRESSES: For the addresses for obtaining and submitting an application, please refer to our Common Instructions for Applicants to Department of Education Discretionary Grant Programs, published in the Federal Register on February 13, 2019 (84 FR 3768) and available at www.govinfo.gov/content/pkg/FR-2019-02-13/pdf/2019-02206.pdf.

FOR FURTHER INFORMATION CONTACT: Carmen Sanchez, U.S. Department of Education, 400 Maryland Avenue SW, Room 5162, Potomac Center Plaza, Washington, DC 20212-5076. Telephone: (202) 245-6595. Email: Carmen.Sanchez@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The purpose of the Training and Information for Parents of Children with Disabilities—Community Parent Resource Centers, Assistance Listing Number 84.328C, is to ensure that parents of children with disabilities receive impartial training and objective information to help improve outcomes and raise expectations for their children.

Priority: In accordance with 34 CFR 75.105(b)(2)(iv) and (v), this absolute priority is based on allowable activities specified in the statute, or otherwise authorized in the statute (see sections 672 and 681(d) of the Individuals with Disabilities Education Act (IDEA), 20 U.S.C. 1472 and 1481).

Absolute Priority: For FY 2021 and any subsequent year in which we make awards from the list of unfunded applications from this competition, this priority is an absolute priority. Under 34 CFR 75.105(c)(3) we consider only applications that meet this priority.

This priority is:

Community Parent Resource Centers.

Background

The purpose of this priority is to fund 25 Community Parent Resource Centers (CPRCs) in geographically defined communities. The CPRCs are designed to meet the information and training needs of parents of infants, toddlers, children, and youth with disabilities, ages birth through 26 (collectively, “children with disabilities”), and youth with disabilities who experience significant isolation from available sources of information and support. These parents can include, for example, low-income parents, parents with limited English proficiency, and parents with disabilities. Youth can include, for example, youth living in low-income households and youth with limited English proficiency.

These CPRCs, consistent with the statute, will provide individualized assistance, training, and resources to help parents work with schools, early childhood providers, and early childhood and educational systems to meet the unique needs of their children and set high expectations and challenging objectives for every child with a disability. CPRCs will also provide high-quality, accurate, and impartial information to families of children with disabilities on the range of educational options that may be available in their State and local community and will coordinate with Parent Training and Information Centers (PTIs) (Assistance Listing Number 84.328M) funded to serve their communities.

CPRCs (www.parentcenterhub.org/find-your-center/) promote the effective education of children with disabilities by “strengthening the role and responsibility of parents and ensuring that families of such children have meaningful opportunities to participate in the education of their children at school and at home” (section 601(c)(5)(B) of IDEA, 20 U.S.C. 1400(c)(5)(B)). CPRCs, consistent with section 672(b)(4) of IDEA (20 U.S.C. 1472(b)(4)), meet the specific needs of families who experience significant isolation from available sources of information and support, such as underserved families, families with limited English proficiency, and families in which a parent may also experience a disability, among others. CPRCs help parents: (a) Navigate systems providing early intervention, special education and related services, general education, and postsecondary options; (b) understand the educational and service options available to them and their children; (c) understand the nature of their children's disabilities; (d) learn about their rights and responsibilities under IDEA; (e) expand their knowledge of evidence-based ¹ practices to help their children succeed; (f) strengthen their collaboration with professionals; (g) locate resources for themselves and their children; and (h) advocate for improved child outcomes and student achievement, increased graduation rates, and improved postsecondary outcomes for all children through participation in program and school reform activities.

¹ The term “evidence-based” means, at a minimum, demonstrating a rationale (as defined in 34 CFR 77.1).

By providing parents with impartial information and individualized assistance and training, CPRCs enable parents to—(a) make informed decisions when choosing educational and early learning options that best meet the needs of their children; (b) help their children meet developmental and academic goals; (c) help their children meet challenging expectations established for all children; and (d) prepare their children to achieve positive postsecondary outcomes that lead to lives that are as productive and independent as possible. In addition, CPRCs help youth with disabilities understand their rights and responsibilities and learn self-advocacy skills to prepare them to lead productive lives as independently as possible.

CPRCs are also valuable partners to State and local agencies, providing expertise on how to better support families and youth with disabilities so that they can effectively and efficiently access IDEA services.

Priority

The Department intends to fund 25 grants to establish and operate 25 CPRCs in geographically defined communities proposed by the applicants.

At a minimum, the CPRCs must—(a) increase parents' ² capacity to help their children with disabilities ³ improve their early learning, school-aged, and postsecondary outcomes; (b) increase parents' knowledge of educational and early learning options; and (c) increase youth with disabilities' capacity to be effective self-advocates.

² The term “parent” includes natural, adoptive, and foster parents, guardians, and individuals acting in the role of “parent” as defined in section 602(23) of IDEA, 20 U.S.C. 1401(23).

³ The term “disabilities” refers to the full range of disabilities described in section 602(3) of IDEA, 20 U.S.C. 1401(3).

In addition to these programmatic requirements, to be considered for funding under this priority, applicants must meet the following application and administrative requirements in this priority:

(a) In the narrative section of the application under “Significance,” the applicant must—

(1) Present appropriate information on—

(i) The needs of parents in the geographically defined community proposed, including, but not limited to, underserved parents, low-income parents, parents with limited English proficiency, and parents with disabilities;

(ii) The needs of youth with disabilities in the geographically defined community proposed, such as incarcerated youth, youth in foster care, and youth with limited English proficiency, among others; and

(iii) The variety of educational options available within the State and local communities, and how parents and youth are made aware of these options; and

(2) Demonstrate how the proposed project will, within the geographically defined community proposed,—

(i) Address the needs of parents of children with disabilities for high-quality services that increase parents' capacity to help their children with disabilities improve their early learning, school-aged, and postsecondary outcomes. To meet this requirement the applicant must—

(A) Demonstrate knowledge of best practices on providing training and information to the variety of parents in the geographically defined community proposed;

(B) Demonstrate knowledge of best practices in outreach and family-centered services;

(C) Demonstrate knowledge of current education practices and policy initiatives to improve outcomes in early intervention and early childhood education, general and special education, transition services, and postsecondary options; and

(D) Demonstrate knowledge of how to identify and work with appropriate partners in the community and State, including local providers and lead agencies providing services under Part C of IDEA (Part C); State and local educational agencies; State child welfare agencies; disability-specific systems and entities serving families, such as the State's protection and advocacy system; vocational rehabilitation (VR) agencies; and other nonprofits serving families in order to improve outcomes; and

(ii) Address the needs of youth with disabilities for high-quality services that increase their capacity to be effective self-advocates. To meet this requirement the applicant must—

(A) Demonstrate knowledge of best practices for providing training and information to the variety of youth with disabilities in the geographically defined community proposed;

(B) Demonstrate knowledge of current education practices and policy initiatives in self-advocacy; and

(C) Demonstrate knowledge of how to work with appropriate partners serving youth with disabilities, including State and local VR agencies, other nonprofits, and independent living centers that provide assistance such as postsecondary education options, employment training, and supports.

(b) Demonstrate, in the narrative section of the application under “Quality of project design and services,” how the proposed project will—

(1) Use a project logic model ⁴ to guide the development of project plans and activities within the geographically defined community proposed;

⁴ Logic model (also referred to as a theory of action) means a framework that identifies key project components of the proposed project (i.e., the active “ingredients” that are hypothesized to be critical to achieving the relevant outcomes) and describes the theoretical and operational relationships among the key project components and relevant outcomes. See 34 CFR 77.1.

Note: The following websites provide more information on logic models and conceptual frameworks: www.osepideasthatwork.org/logicModel and www.osepideasthatwork.org/resources-grantees/program-areas/ta-ta/tad-project-logic-model-and-conceptual-framework.

(2) Develop and implement an outreach plan to inform parents of children with disabilities, who experience significant isolation from available sources of information and support, of how they can benefit from the services provided by the CPRC;

(3) Develop and implement an outreach plan to inform youth with disabilities how they can benefit from the services provided by the CPRC;

(4) Provide high-quality services that increase parents' capacity to help their children with disabilities improve their early learning, school-aged, and postsecondary outcomes. To meet this requirement the applicant must include information as to how the services will—

(i) Increase parents' knowledge of—

(A) The nature of their children's disabilities, including their children's strengths and academic, behavioral, and developmental challenges;

(B) The importance of having high expectations for their children and how to help them meet those expectations;

(C) The local, State, and Federal resources available to assist them and their children and local resources that strengthen their connection to their communities;

(D) IDEA and IDEA regulations, and State regulations, policies, and practices implementing IDEA, including—

(1) Their rights and responsibilities under IDEA, including procedural safeguards and dispute resolution;

(2) Their role on Individualized Family Service Plan (IFSP) and Individualized Education Program (IEP) Teams and how to effectively participate on IFSP and IEP Teams; and

(3) How services are provided under IDEA;

(E) Other relevant educational and health care legislation, including the Elementary and Secondary Education Act of 1965, as amended (ESEA); the Rehabilitation Act, especially section 504 of the Rehabilitation Act (Section 504) and the provisions established by the Workforce Innovation and Opportunity Act (WIOA); and the Americans with Disabilities Act (ADA);

(F) Transition services, at all levels, including Part C early intervention to Part B preschool, preschool to elementary school, elementary school to secondary school, secondary school to postsecondary education and workforce options, and re-entry of incarcerated youth to school and the community;

(G) The options available within the State and their community to educate and help their children meet educational and developmental outcomes;

(H) How their children can access and participate in the general education curriculum and inclusive early learning programs, including access to corresponding academic standards and assessments, extracurricular and enrichment opportunities, and other initiatives available to all children;

(I) Early intervention and education practices that improve outcomes and help children meet high expectations; and

(J) School reform efforts to improve student achievement and increase graduation rates; and

(ii) Increase parents' capacity to—

(A) Effectively support their children with disabilities and participate in their children's education;

(B) Make informed decisions when choosing educational and early learning options that best meet the needs of their children;

(C) Communicate effectively and work collaboratively in partnership with early intervention service providers, school-based personnel, related services personnel, and administrators;

(D) Resolve disputes effectively; and

(E) Participate in school reform activities to improve outcomes for all children;

(5) Provide high-quality services that increase youth with disabilities' capacity to be effective self-advocates. To meet this requirement the applicant must include information as to how the services will—

(i) Increase the knowledge of youth with disabilities about—

(A) The nature of their disabilities, including their strengths and their academic, behavioral, and developmental challenges;

(B) The importance of having high expectations for themselves and how to meet those expectations;

(C) The resources available to support their success in secondary and postsecondary education and employment and full participation in their communities;

(D) IDEA, Section 504, the Rehabilitation Act, WIOA, ADA, and other legislation, regulations, and policies that affect people with disabilities;

(E) Their rights and responsibilities while receiving services under IDEA, the Rehabilitation Act, and WIOA, and after transitioning to post-school programs, services, and employment;

(F) How they can participate on IEP Teams;

(G) The options available within the State and their community to help them meet their educational and post-transition outcomes; and

(H) Supported decision making necessary to transition to adult life; and

(ii) Increase the capacity of youth with disabilities to—

(A) Advocate for themselves, including communicating effectively and working collaboratively in partnership with providers; and

(B) Make informed decisions when choosing educational options that best meet their needs;

(6) Use various methods to deliver services, including in-person and remotely through the use of technology;

(7) Use best practices for providing training and information to adult learners and youth;

(8) Establish cooperative partnerships with the PTI funded in the State under section 671 of IDEA serving the CPRC's geographically defined community;

(9) Establish cooperative partnerships with the Parent Training and Information Centers funded under the Rehabilitation Act (Assistance Listing Number 84.235F), the Regional Parent Technical Assistance Centers (Regional PTACs) (Assistance Listing Number 84.328R) region to which they belong, and the Center for Parent Information and Resources (Assistance Listing Number 84.328R); and

(10) Network with local, State, and national organizations and agencies, such as protection and advocacy agencies and VR agencies that serve parents and families of children with disabilities, to better support families and children with disabilities to effectively and efficiently access IDEA and pre-employment transition services.

(c) In the narrative section of the application under “Quality of the project evaluation,” include an evaluation plan for the project as described in the following paragraphs. The evaluation plan must describe: Measures for evaluating the quality, accuracy, and impartiality of project services and products; measures of progress in implementation, including the criteria for determining the extent to which the project's products and services have met the goals for reaching its target population; measures of intended outcomes or results of the project's activities in order to evaluate those activities; and how well the goals or objectives of the proposed project, as described in its logic model, have been met.

(d) Demonstrate, in the narrative section of the application under “Adequacy of resources and quality of project personnel,” how—

(1) The applicant and any key partners have adequate resources to carry out the proposed activities;

(2) The proposed costs are reasonable in relation to the anticipated results and benefits;

(3) The proposed project will encourage applications for employment from persons who are members of groups that have traditionally been underrepresented based on race, color, national origin, gender, age, or disability, as appropriate; and

(4) The proposed key project personnel, consultants, and subcontractors have the qualifications and experience to carry out the proposed activities and achieve the project's intended outcomes.

(e) Demonstrate, in the narrative section of the application under “Quality of the management plan,” how—

(1) The proposed management plan will ensure that the project's intended outcomes will be achieved on time and within budget. To address this requirement, the applicant must describe—

(i) Clearly defined responsibilities for key project personnel, consultants, and subcontractors, as applicable; and

(ii) Timelines and milestones for accomplishing the project tasks;

(2) Key project personnel and any consultants and subcontractors will be allocated and how these allocations are appropriate and adequate to achieve the project's intended outcomes;

(3) The proposed management plan will ensure that the products and services provided are of high quality, impartial, relevant, and useful to recipients;

(4) The board of directors will be used to provide appropriate oversight to the project;

(5) The proposed project will benefit from a diversity of perspectives, including those of families using a variety of education options, youth, educators, and State and local providers, among others, in its development and operation;

(6) The proposed project will ensure that the annual performance reports submitted to the Department will—

(i) Be accurate and timely;

(ii) Include information on the projects' outputs and outcomes; and

(iii) Include, at a minimum, the number and demographics of parents and youth to whom the CPRC provided information and training, the parents' and youth's unique needs, and the levels of service provided to them; and

(7) The project management and staff will—

(i) Make use of the technical assistance (TA) and products provided by the OSEP-funded Center on Parent Information and Resources, Regional PTACs, and other TA centers, as appropriate;

(ii) Participate in developing individualized TA plans with the Regional PTAC, as appropriate; and

(iii) Facilitate one site visit from the Regional PTAC during the grant cycle.

(f) Address the following application requirements. The applicant must—

(1) Include, in Appendix A, a logic model for the project;

(2) Include, in Appendix A, personnel-loading charts and timelines, as applicable, to illustrate the management plan described in the narrative;

(3) Include, in the budget, travel funds to support the project director's attendance annually at one meeting sponsored by OSEP or the Regional PTACs, at a minimum;

(4) Maintain a website that meets government or industry-recognized standards for accessibility and that includes, at a minimum, a current calendar of upcoming events, free informational publications for families, and links to webinars or other online multimedia resources; and

(5) Assure that the information provided to parents is accurate and impartial.

Waiver of Proposed Rulemaking: Under the Administrative Procedure Act (APA) (5 U.S.C. 553), the Department generally offers interested parties the opportunity to comment on proposed priorities and requirements. Section 681(d) of IDEA, however, makes the public comment requirements of the APA inapplicable to the priority in this notice.

Program Authority: 20 U.S.C. 1472 and 1481.

Note: Projects will be awarded and must be operated in a manner consistent with the nondiscrimination requirements contained in Federal civil rights laws.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

II. Award Information

Type of Award: Discretionary grants.

Estimated Available Funds: Congress has appropriated $27,411,000 for the Training and Information for Parents of Children with Disabilities program for FY 2021, of which we intend to use an estimated $3,000,000 for this competition.

Contingent upon the availability of funds and the quality of applications, we may make additional awards in subsequent years from the list of unfunded applications from this competition.

Estimated Average Size of Awards: $120,000.

Maximum Award: We will not make an award exceeding $120,000 for a single budget period of 12 months.

Estimated Number of Awards: 25.

Note: The Department is not bound by any estimates in this notice.

Project Period: Up to 60 months.

III. Eligibility Information

1. Eligible Applicants: Local parent organizations.

Note: A “local parent organization” is a private nonprofit organization (other than an institution of higher education (IHE)). Section 672(a)(2) of IDEA requires that an eligible local parent organization—

(a) Has a board of directors the majority of whom are parents of children with disabilities ages birth through 26 from the community to be served; and

(b) Has as its mission serving parents of children with disabilities who—

(1) Are ages birth through 26; and

(2) Have the full range of disabilities described in section 602(3) of IDEA.

Note: If you are a nonprofit organization, under 34 CFR 75.51, you may demonstrate your nonprofit status by providing: (1) Proof that the Internal Revenue Service currently recognizes the applicant as an organization to which contributions are tax deductible under section 501(c)(3) of the Internal Revenue Code; (2) a statement from a State taxing body or the State attorney general certifying that the organization is a nonprofit organization operating within the State and that no part of its net earnings may lawfully benefit any private shareholder or individual; (3) a certified copy of the applicant's certificate of incorporation or similar document if it clearly establishes the nonprofit status of the applicant; or (4) any item described above if that item applies to a State or national parent organization, together with a statement by the State or parent organization that the applicant is a local nonprofit affiliate.

2. a. Cost Sharing or Matching: This program does not require cost sharing or matching.

b. Indirect Cost Rate Information: This program uses an unrestricted indirect cost rate. For more information regarding indirect costs, or to obtain a negotiated indirect cost rate, please see www2.ed.gov/about/offices/list/ocfo/intro.html.

c. Administrative Cost Limitation: This program does not include any program-specific limitation on administrative expenses. All administrative expenses must be reasonable and necessary and conform to Cost Principles described in 2 CFR part 200 subpart E of the Uniform Guidance.

3. Subgrantees: Under 34 CFR 75.708(b) and (c), a grantee under this competition may award subgrants—to directly carry out project activities described in its application—to the following types of entities: IHEs and private nonprofit organizations suitable to carry out the activities proposed in the application.

The grantee may award subgrants to entities it has identified in an approved application.

4. Other General Requirements: (a) Recipients of funding under this program must make positive efforts to employ and advance in employment qualified individuals with disabilities (see section 606 of IDEA).

(b) Each applicant for, and recipient of, funding under this program must involve individuals with disabilities, or parents of individuals with disabilities ages birth through 26, in planning, implementing, and evaluating the project (see section 682(a)(1)(A) of IDEA).

IV. Application and Submission Information

1. Application Submission Instructions: Applicants are required to follow the Common Instructions for Applicants to Department of Education Discretionary Grant Programs, published in the Federal Register on February 13, 2019 (84 FR 3768) and available at www.govinfo.gov/content/pkg/FR-2019-02-13/pdf/2019-02206.pdf, which contain requirements and information on how to submit an application.

2. Intergovernmental Review: This competition is subject to Executive Order 12372 and the regulations in 34 CFR part 79. Information about Intergovernmental Review of Federal Programs under Executive Order 12372 is in the application package for this competition.

3. Funding Restrictions: We reference regulations outlining funding restrictions in the Applicable Regulations section of this notice.

4. Recommended Page Limit: The application narrative is where you, the applicant, address the selection criteria that reviewers use to evaluate your application. We recommend that you (1) limit the application narrative to no more than 50 pages, and (2) use the following standards:

• A “page” is 8.5″ x 11″, on one side only, with 1″ margins at the top, bottom, and both sides.

• Double space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial.

The recommended page limit does not apply to the cover sheet; the budget section, including the narrative budget justification; the assurances and certifications; or the abstract (follow the guidance provided in the application package for completing the abstract), the table of contents, the list of priority requirements, the resumes, the reference list, the letters of support, or the appendices. However, the recommended page limit does apply to all of the application narrative, including all text in charts, tables, figures, graphs, and screen shots.

V. Application Review Information

1. Selection Criteria: The selection criteria for this competition are from 34 CFR 75.210 and are as follows:

(a) Significance. (20 points)

(1) The Secretary considers the significance of the proposed project.

(2) In determining the significance of the proposed project, the Secretary considers the following factors:

(i) The extent to which specific gaps or weaknesses in services, infrastructure, or opportunities have been identified and will be addressed by the proposed project, including the nature and magnitude of those gaps or weaknesses; and

(ii) The importance or magnitude of the results or outcomes likely to be attained by the proposed project.

(b) Quality of project design and services. (30 points)

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability.

(3) In addition, the Secretary considers the following factors:

(i) The extent to which the goals, objectives, and outcomes to be achieved by the proposed project are clearly specified and measurable;

(ii) The extent to which the services to be provided by the proposed project reflect up-to-date knowledge from research and effective practice;

(iii) The extent to which the services to be provided by the proposed project are appropriate to the needs of the intended recipients or beneficiaries of those services;

(iv) The extent to which the services to be provided by the proposed project involve the collaboration of appropriate partners for maximizing the effectiveness of project services; and

(v) The extent to which the TA services to be provided by the proposed project involve the use of efficient strategies, including the use of technology, as appropriate, and the leveraging of non-project resources.

(c) Quality of the project evaluation. (15 points)

(1) The Secretary considers the quality of the evaluation to be conducted of the proposed project.

(2) In determining the quality of the evaluation, the Secretary considers the following factors:

(i) The extent to which the methods of evaluation are thorough, feasible, and appropriate to the goals, objectives, and outcomes of the proposed project;

(ii) The extent to which the methods of evaluation are appropriate to the context within which the project operates;

(iii) The extent to which the methods of evaluation will provide performance feedback and permit periodic assessment of progress toward achieving intended outcomes; and

(iv) The extent to which the methods of evaluation include the use of objective performance measures that are clearly related to the intended outcomes of the project and will produce quantitative and qualitative data to the extent possible.

(d) Adequacy of resources and quality of project personnel. (20 points)

(1) The Secretary considers the adequacy of resources and quality of project personnel for the proposed project.

(2) In determining the adequacy of resources and quality of project personnel for the proposed project, the Secretary considers the following factors:

(i) The adequacy of support, including facilities, equipment, supplies, and other resources, from the applicant organization or the lead applicant organization;

(ii) The extent to which the costs are reasonable in relation to the objectives, design, and potential significance of the proposed project;

(iii) The extent to which the applicant encourages applications for employment from persons who are members of groups that have traditionally been underrepresented based on race, color, national origin, gender, age, or disability;

(iv) The qualifications, including relevant training and experience, of key project personnel;

(v) The relevance and demonstrated commitment of each partner in the proposed project to the implementation and success of the project.

(e) Quality of the management plan. (15 points)

(1) The Secretary considers the quality of the management plan for the proposed project.

(2) In determining the quality of the management plan for the proposed project, the Secretary considers the following factors:

(i) The adequacy of the management plan to achieve the objectives of the proposed project on time and within budget, including clearly defined responsibilities, timelines, and milestones for accomplishing project tasks;

(ii) The extent to which the time commitments of the project director and principal investigator and other key project personnel are appropriate and adequate to meet the objectives of the proposed project;

(iii) The adequacy of mechanisms for ensuring high-quality products and services from the proposed project; and

(iv) How the applicant will ensure that a diversity of perspectives are brought to bear in the operation of the proposed project, including those of parents, teachers, the business community, a variety of disciplinary and professional fields, recipients or beneficiaries of services, or others, as appropriate.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances including those applicable to Federal civil rights laws that prohibit discrimination in programs or activities receiving Federal financial assistance from the Department (34 CFR 100.4, 104.5, 106.4, 108.8, and 110.23).

3. Additional Review and Selection Process Factors:

In the past, the Department has had difficulty finding peer reviewers for certain competitions because so many individuals who are eligible to serve as peer reviewers have conflicts of interest. The standing panel requirements under section 682(b) of IDEA also have placed additional constraints on the availability of reviewers. Therefore, the Department has determined that, for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications.

4. Risk Assessment and Specific Conditions:

Consistent with 2 CFR 200.206, before awarding grants under this competition the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

5. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

6. In General: In accordance with the Office of Management and Budget's guidance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements, please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case, the Secretary establishes a data collection period.

5. Performance Measures:

Under the Government Performance and Results Act of 1993 (GPRA) and for Department reporting requirements under 34 CFR 75.110, the Department has established a set of performance measures, including long-term measures, that are designed to yield information on the quality, relevance, and usefulness of the materials, products, and services of the Training and Information for Parents of Children with Disabilities program. These measures are:

• Program Performance Measure 1: The percentage of materials used by projects that are deemed to be of high quality;

• Program Performance Measure 2: The percentage of products and services deemed to be of high relevance to educational and early intervention policy and practice;

• Program Performance Measure 3: The percentage of all products and services deemed to be useful to improve educational or early intervention policy or practice; and

• Program Performance Measure 4: The percentage of individuals with disabilities and their families receiving PTI services who report enhanced knowledge and understanding of IDEA services.

Grantees will be required to report information on their project's performance in annual reports to the Department (34 CFR 75.590).

6. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

David Cantrell,
Deputy Director, Office of Special Education Programs. Delegated the authority to perform the functions and duties of the Assistant Secretary for the Office of Special Education and Rehabilitative Services.

[FR Doc. 2021-03418 Filed 2-18-21; 8:45 am]

BILLING CODE 4000-01-P